NATIONAL AERONAUTICS AND SPACE ADMINISTRATION

[Notice: (19-034)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995.

DATES: All comments should be submitted within 30 calendar days from the date of this publication.

ADDRESSES: Interested persons are invited to submit written comments on the proposed information collection to NASA Paperwork Reduction Act Clearance Officer, Code JF000, National Aeronautics and Space Administration, Washington, DC 20546-0001 or Gatrie.Johnson@nasa.gov.

FOR FURTHER INFORMATION CONTACT: Requests for additional information or copies of the information collection instrument(s) and instructions should be directed to Gatrie Johnson, NASA Clearance Officer, NASA Headquarters, 300 E Street SW, JF000, Washington, DC 20546, or Gatrie.Johnson@nasa.gov.

SUPPLEMENTARY INFORMATION:

I. Abstract

The NASA Ames Research Center, Human Systems Integration Division, manages voluntary safety reporting systems to collect and share safety information including, but not limited to, the NASA Aviation Safety Reporting System (ASRS) and the Confidential Close Call Reporting System (C3RS). Both systems are voluntary reporting systems for the reporting of safety incidents, events, or situations. Respondents include, but are not limited to, any participant involved in safety-critical domains such as aviation or railway operations including commercial and general aviation pilots, drone operators, air traffic controllers, flight attendants, ground crews, maintenance technicians, dispatchers, train engineers, conductors, and other members of the public.

The collected safety data are used by NASA, Federal Aviation Administration (FAA), Federal Railroad Administration (FRA), and other organizations that are engaged in research and the promotion of safety. The data are used to (1) Identify deficiencies and discrepancies so that these can be remedied by appropriate authorities, (2) Support policy formulation and planning for improvements and, (3) Strengthen the foundation of human factors safety research. Respondents are not reimbursed for associated cost to provide the information. Comments submitted in response to this notice will be summarized and included in the request for OMB approval of this information collection. They will also become a matter of public record.

II. Method of Collection

NASA collects this information electronically and that is the preferred manner, however information may also be collected via mail.

III. Data

Title: NASA ASRS and Related Voluntary Safety Reporting Systems.

OMB Number:

Type of Review: Existing Information Collection in use without OMB Approval.

Affected Public: Individuals.

Estimated Number of Respondents: 100,000 annually.

Estimated Time per Response: 30 minutes.

Estimated Total Annual Burden Hours: 50,000 hours.

Estimated Total Annual Cost: $3.88 M.

IV. Request for Comments

Comments are invited on: (1) Whether the proposed collection of information is necessary for the proper performance of the functions of NASA, including whether the information collection has practical utility; (2) the accuracy of NASA's estimate of the burden (including hours and cost) of the propose collection of information; (3) ways to minimize the burden of the collection of information on respondents. Comments submitted in response to this notice will be summarized and included in the request for OMB approval of this information collection. They will also become a matter of public record.

Gatrie Johnson,
NASA PRA Clearance Officer.

[FR Doc. 2019-11572 Filed 6-3-19; 8:45 am]

BILLING CODE 7510-13-P